DEPARTMENT OF HOMELAND SECURITY

[Docket No. DHS-2008-0200]

Homeland Security Advisory Council

AGENCY: The Office of Policy, DHS.

ACTION: Committee Management; Notice of Closed Federal Advisory Committee Meeting.

SUMMARY: The Homeland Security Advisory Council (HSAC) will meet on January 12, 2009 in Washington, DC. The meeting will be closed to the public.

DATE: The HSAC will meet on Monday, January 12, 2009 from 12:30 p.m. to 2:30 p.m. EST.

ADDRESSES: The meeting will be held at DHS Headquarters at the Nebraska Avenue Complex, Washington, DC, 20528. Requests to have written material distributed to each member of the committee prior to the meeting should reach the contact person at the address below by January 6, 2009. Send written material to Homeland Security Advisory Council, 245 Murray Lane, SW., Mailstop 0850, Washington DC, 20528. Comments must be identified by DHS-2008-0200 and may be submitted by one of the following methods:

• Federal eRulemaking Portal: http://www.regulations.gov. Follow the instructions for submitting comments.

• E-mail: hsac@dhs.gov. Include the docket number in the subject line of the message.

• Fax: (202) 282-9207.

• Mail: Homeland Security Advisory Council, Department of Homeland Security, Mailstop 0850, 245 Murray Lane, SW., Washington, DC 20528.

Instructions: All submissions received must include the words “Department of Homeland Security” and the docket number for this action. Comments received will be posted without alteration at http://www.regulations.gov, including any personal information provided.

Docket: For access to the docket to read background documents or comments received by the HSAC, go to http://www.regulations.gov.

FOR FURTHER INFORMATION CONTACT: Homeland Security Advisory Council, Washington, DC 20528, (202) 447-3135, HSAC@dhs.gov.

SUPPLEMENTARY INFORMATION: Notice of this meeting is given under the Federal Advisory Committee Act, 5 U.S.C. App. (Pub. L. 92-463). The HSAC provides independent advice to the Secretary of the Department of Homeland Security to aide in the creation and implementation of critical and actionable policies and capabilities across the spectrum of homeland security operations. The HSAC periodically reports, as requested, to the Secretary, on such matters. The HSAC serves as the Secretary's primary advisory body with the goal of providing strategic, timely and actionable advice.

The HSAC will meet for the purpose of receiving briefings and updates from Secretary Chertoff on the current status of the DHS administration transition, a threat assessment and intelligence briefing focused on the transition period, and the upcoming National Special Security Event, the inauguration of President Elect Obama. The Secretary will also brief the members on successes, challenges and vulnerabilities affecting the Department's mission. The briefings will include information on sensitive homeland procedures and the capabilities of the Department of Homeland Security Components.

Basis for Closure: In accordance with Section 10(d) of the Federal Advisory Committee Act, it has been determined that this HSAC meeting concerns matters that “disclose investigative techniques and procedures” under 25 U.S.C. 552b(c)(7)(E) and are “likely to significantly frustrate implementation of a proposed agency action” within the meaning of 5 U.S.C. 552b(c)(9)(B) and that, accordingly, the meeting will be closed to the public.

Discussion of ongoing investigations with Department of Homeland Security enforcement Components and outside law enforcement partners fall within the meaning of 5 U.S.C 552b(7)(E) insofar as they will “disclose investigative techniques and procedures.” Additionally, release of information presented during the briefings and the nature of the discussion could lead to premature disclosure of information on Department of Homeland Security actions that would be “likely to significantly frustrate implementation of a proposed agency action.”

Dated: December 19, 2008.
Stewart Baker,
Assistant Secretary, Office of Policy.

[FR Doc. E8-30983 Filed 12-29-08; 8:45 am]

BILLING CODE 4410-10-P